DEPARTMENT OF EDUCATION

Notice of Proposed Information Collection Requests

AGENCY: Department of Education.

ACTION: Correction notice.

SUMMARY: On December 7, 2001, a notice was published for the Discretionary Grant collection, “Generic Application Package for Discretionary Grant Programs” in the Federal Register (Volume 66, Number 236) dated December 7, 2001. This collection needed to be processed through the emergency clearance process. Refer to last week's publication for the specific details of the collection. Since this information collection is now an emergency, ED is requesting OMB approval by December 17, 2001. ED is requesting emergency processing and a December 17 approval for this information collection since it could potentially result in public harm if this collection went through the normal clearance process. Approval by this date is urgent and directly relates to the nature of the work that will be funded under the grants to be awarded using this information collection. Applications for research grants must be available in early January in order to provide applicants with sufficient time to develop and submit strong research applications by March 1, 2002. The Department of Education must award these grants by the end of April or sooner to allow the involved local education agencies—essential participants in the research applications—sufficient time for planning during the summer so that implementation occurs in September, 2002. Any delay would jeopardize the timing of the conduct of important research on early childhood curricula. ED will consider any public comment received in order to improve this information collection. The Leader, Regulatory Information Management, Office of the Chief Information Officer, hereby issues a correction notice as required by the Paperwork Reduction Act of 1995.

Dated: December 10, 2001.
John Tressler,
Leader, Regulatory Information Management Group, Office of the Chief Information Officer.

[FR Doc. 01-30872 Filed 12-13-01; 8:45 am]

BILLING CODE 4000-01-P